OFFICE OF THE UNITED STATES TRADE REPRESENTATIVE

Notice of Meeting of the Industry Sector Advisory Committee on Small and Minority Business (ISAC-14)

AGENCY: Office of the United States Trade Representative.

ACTION: Notice of an opened meeting.

SUMMARY: The Industry Sector Advisory Committee on Small and Minority Business (ISAC-14) will hold a meeting on January 28, 2002, from 9 a.m. to 3 p.m. The meeting will be opened to the public from 9 a.m. to 3 p.m.

DATES: The meeting is scheduled for January 28, 2002, unless otherwise notified.

ADDRESSES: The meeting will be held in Conference Room C, of the Minority Business Development Agency (MBDA), located at 26 Federal Plaza, New York, New York 10278.

FOR FURTHER INFORMATION CONTACT: Millie Sjoberg, Pam Wilbur or Kelly Parsons (principal contacts), at (202) 482-4792, Department of Commerce, 14th Street and Constitution Avenue, NW., Washington, DC 20230 or myself on (202) 395-6120.

SUPPLEMENTARY INFORMATION: During the opened portion of the meeting the agenda topics to be addressed will be:

• Discussion on the impact of the September 11th attacks on Small Business exporters, including presentations by officials from the Small Business Administration (SBA), MBDA, U.S. Customs, Federal Emergency Management Agency (FEMA), the New York City Mayor's office, the New York City Comptroller, the New York City public advocate, the New York City Fire Department, the New York City USFCS; and,

• Discussion on the upcoming APEC SME Ministerial.

Elizabeth A. Gianni,
Acting Assistant U.S. Trade Representative for Intergovernmental Affairs and Public Liaison.

[FR Doc. 02-1097 Filed 1-15-02; 8:45 am]

BILLING CODE 3190-01-M